FEDERAL COMMUNICATIONS COMMISSION

47 CFR Part 97

Amateur Radio Service

CFR Correction

In title 47 of the Code of Federal Regulations, part 80 to end, revised as of October 1, 2007, on page 594, in § 97.109, remove paragraph (e).

[FR Doc. E8-21929 Filed 9-17-08; 8:45 am]

BILLING CODE 1505-01-D